DEPARTMENT OF ENERGY

Federal Energy Regulatory Commission

[Docket No. CP09-37-000]

Gulf South Pipeline Company, LP; Notice of Request Under Blanket Authorization

December 30, 2008.

Take notice that on December 16, 2008, Gulf South Pipeline Company, LP, (Gulf South), 9 Greenway Plaza, Suite 2800, Houston, Texas 77046, filed in Docket No. CP09-37-000, an application pursuant to sections 157.205 and 157.216 of the Commission's Regulations under the Natural Gas Act (NGA) as amended, for permission and approval to abandon in place and by removal approximately 11.5 miles of inactive 20-inch diameter pipeline and associated appurtenances in various Eugene Island blocks, offshore Louisiana, under Gulf South's blanket certificate issued in Docket No. CP82-430-000,¹ all as more fully set forth in the application which is on file with the Commission and open to the public for inspection.

¹ 20 FERC ¶ 62,416 (1982).

Gulf South proposes to abandon in approximately 11.5 miles of 20-inch diameter pipeline which originates at a producer platform in Eugene Island Block 57 at the upstream connection to a meter station and appurtenances to a point of connection at a Eugene Island Block 32 platform with an existing Gulf South offshore pipeline, including platform riser, pig receiver, and associated appurtenances. Gulf South states that it would abandon all of the 11.5 miles of pipeline in place, except for approximately 1,675 feet in the Atchafalaya Pass Fairway in Eugene Island Block 32, which Gulf South would remove. Gulf South also states that the facilities it proposes to abandon have been inactive since 2003 and their proposed abandonment would not affect or degrade service to Gulf South's existing customers, nor would it have an operational effect on Gulf South's system. Gulf South further states that it would cost approximately $2,326,500 to remove pipeline and appurtenant facilities in this proceeding.

Any questions concerning this application may be directed to J. Kyle Stephens, Vice President, Regulatory Affairs, Gulf South Pipeline Company, LP, 9 Greenway Plaza, Suite 2800, Houston, Texas 77046; telephone 713-479-8033 or by e-mail: kyle.stephens@bwpmlp.com.

This filing is available for review at the Commission or may be viewed on the Commission's Web site at http://www.ferc.gov, using the “eLibrary” link. Enter the docket number excluding the last three digits in the docket number filed to access the document. For assistance, please contact FERC Online Support at FERC OnlineSupport@ferc.gov or call toll-free at (866)206-3676, or, for TTY, contact (202)502-8659. Comments, protests and interventions may be filed electronically via the Internet in lieu of paper. See, 18 CFR 385.2001(a)(1)(iii) and the instructions on the Commission's Web site under the “e-Filing” link. The Commission strongly encourages intervenors to file electronically.

Any person or the Commission's staff may, within 60 days after issuance of the instant notice by the Commission, file pursuant to Rule 214 of the Commission's Procedural Rules (18 CFR 385.214) a motion to intervene or notice of intervention and pursuant to section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to section 7 of the NGA.

Kimberly D. Bose,
Secretary.

[FR Doc. E8-31437 Filed 1-6-09; 8:45 am]

BILLING CODE 6717-01-P